ENVIRONMENTAL PROTECTION AGENCY

40 CFR Part 300

[EPA-HQ-SFUND-1989-0008; FRL-9959-52-Region 3]

National Oil and Hazardous Substances Pollution Contingency Plan; National Priorities List: Partial Deletion of the North Penn Area 6 Superfund Site

AGENCY: Environmental Protection Agency (EPA).

ACTION: Withdrawal of direct final rule.

SUMMARY: On December 23, 2016, the Environmental Protection Agency (EPA) published a Notice of Intent for Partial Deletion (81 FR 94295) and a direct final Notice of Partial Deletion (81 FR 94262) for the North Penn Area 6 Superfund Site located in Lansdale Borough, Montgomery County, Pennsylvania, from the National Priorities List. The EPA is withdrawing the direct final Notice of Partial Deletion due to adverse comments that were received during the public comment period. After consideration of the comments received, if appropriate, EPA will publish a Notice of Partial Deletion in the Federal Register based on the parallel Notice of Intent for Partial Deletion and place a copy of the final partial deletion package, including a Responsiveness Summary, if prepared, in docket EPA-HQ-SFUND-1989-0008, accessed through the http://www.regulations.gov Web site and in the Site repositories.

DATES: This withdrawal of the direct final rule (81 FR 94262) is effective as of February 22, 2017.

ADDRESSES: Information Repositories: Comprehensive information on the Site, as well as the comments that we received during the comment period, are available in docket EPA-HQ-SFUND-1989-0008, accessed through the http://www.regulations.gov Web site. Although listed in the docket index, some information is not publicly available, e.g., Confidential Business Information or other information whose disclosure is restricted by statue. Certain other material, such as copyrighted material, will be publicly available only in hard copy. Publicly available docket materials are available either electronically at http://www.regulations.gov or in hard copy at: U.S. EPA Region III, Superfund Records Center, 6th Floor, 1650 Arch Street, Philadelphia, PA 19103-2029; (215) 814-3157, Monday through Friday 8:00 a.m. to 5:00 p.m., and the Lansdale Public Library, 301 Vine Street, Lansdale, PA 19446; (215) 855-3228, Monday through Friday 10:00 a.m. to 9:00 p.m.

FOR FURTHER INFORMATION CONTACT: Huu Ngo, Remedial Project Manager (3HS21), U.S. Environmental Protection Agency, Region III, 1650 Arch Street, Philadelphia, PA 19103-2029; (215) 814-3187; email: ngo.huu@epa.gov.

SUPPLEMENTARY INFORMATION:

List of Subjects in 40 CFR Part 300

Environmental protection, Air pollution control, Chemicals, Hazardous waste, Hazardous substances, Intergovernmental relations, Penalties, Reporting and recordkeeping requirements, Superfund, Water pollution control, Water supply.

Authority: 33 U.S.C. 1321(c)(2); 42 U.S.C. 9601-9657; E.O. 12777, 56 FR 54757, 3 CFR, 1991 Comp., p. 351; E.O. 12580, 52 FR 2923; 3 CFR, 1987 Comp., p. 193.

Dated: February 10, 2017.
Cecil Rodrigues,
Acting Regional Administrator, Region III.

Accordingly, the amendment to Table 1 of Appendix B to CFR part 300 to add a “P” in the Notes column in the entry “PA”, “North Penn Area 6”, “Lansdale” is withdrawn as of February 22, 2017.

[FR Doc. 2017-03467 Filed 2-21-17; 8:45 am]

BILLING CODE 6560-50-P